DEPARTMENT OF STATE

[Public Notice 4487]

Shipping Coordinating Committee; Notice of Meeting

The Shipping Coordinating Committee (SHC) will conduct two open meetings between 10 a.m. and 12 p.m. in successive order on Wednesday, 12 November 2003, in Room 6103, at U.S. Coast Guard Headquarters, 2100 Second Street, SW, Washington, DC 20593-0001. The purpose of the first meeting, 10 a.m. to 11 a.m., is to finalize preparations for the 22nd Extraordinary Session of Council, the 91st Session of Council and the 23rd Session of the Assembly of the International Maritime Organization (IMO) which are scheduled to be held from the 21st of November to the 5th of December 2003, at the IMO Headquarters in London. Discussion will focus on the papers received for the sessions and draft U.S. positions.

Items of particular interest include:

• Reports of Committees;

• Reports on Diplomatic Conferences;

• Work Program and Budget for 2004-2005; and

• Election of Members of the Council.

The purpose of the second meeting, 11 a.m. to 12 p.m., is to finalize preparations for the 50th session of the Marine Environment Protection Committee, which is scheduled to be held on the 1st and 4th of December 2003, at the IMO Headquarters in London. Discussion will focus on papers received for the meeting and draft U.S. positions.

Items of particular interest include:

• Consideration and adoption of amendments to MARPOL 73/78;

• Consideration of the report of the Committee.

Members of the public may attend these meetings up to the seating capacity of the room. Interested persons may seek information by writing: Director, International Affairs, U.S. Coast Guard Headquarters, Commandant (G-CI), room 2114, 2100 Second Street, SW, Washington, DC 20593-0001 or by calling: (202) 267-2280.

Dated: October 14, 2003.
Steven D. Poulin,
Executive Secretary, Shipping Coordinating Committee, Department of State.

[FR Doc. 03-26792 Filed 10-22-03; 8:45 am]

BILLING CODE 4710-07-P